DEPARTMENT OF AGRICULTURE

Animal and Plant Health Inspection Service

9 CFR Part 94

[Docket No. APHIS-2006-0104]

Classical Swine Fever Status of the Mexican State of Nayarit; Correction

AGENCY: Animal and Plant Health Inspection Service, USDA.

ACTION: Proposed rule; correction.

SUMMARY: We are correcting an error in our proposed rule to amend the regulations for importing animals and animal products by adding the Mexican State of Nayarit to the list of regions considered free of classical swine fever (CSF). We would also add Nayarit to the list of CSF-free regions whose exports of live swine, pork, and pork products to the United States must meet certain certification requirements to ensure their freedom from CSF. The proposed rule was published in the Federal Register on January 31, 2007 (72 FR 4463-4467, Docket No. APHIS 2006-0104).

FOR FURTHER INFORMATION CONTACT: Dr. Chip Wells, Senior Staff Veterinarian, Regionalization Evaluation Services-Import, National Center for Import and Export, VS, APHIS, 4700 River Road Unit 38, Riverdale, MD 20737-1231; (301) 734-4356.

SUPPLEMENTARY INFORMATION: On January 31, 2007, we published in the Federal Register (72 FR 4463-4467, Docket No. APHIS-2006-0104) a proposed rule to amend the regulations for importing animals and animal products by adding the Mexican State of Nayarit to the list of regions considered free of classical swine fever (CSF). We would also add Nayarit to the list of CSF-free regions whose exports of live swine, pork, and pork products to the United States must meet certain certification requirements to ensure their freedom from CSF.

In the summary of the proposed rule, and in the supplementary information under the heading “Executive Order 12866 and Regulatory Flexibility Act,” we stated that we would add Nayarit to the list of CSF-affected regions whose exports of live swine, pork, and pork products to the United States must meet certain certification requirements to ensure their freedom from CSF. This information was incorrect. We are proposing to recognize the State of Nayarit as free of this disease, so it should have read that we would add the State to the list of CSF-free regions to which those requirements apply. This document corrects these errors.

Correction

In FR Doc. E7-1530, published on January 31, 2007 (72 FR 4463-4467) make the following corrections: On page 4463, under Summary, third sentence, and on page 4466, first column, first full sentence, correct “CSF-affected” to read “CSF-free”.

Done in Washington, DC, this 15th day of February 2007.
Elizabeth E. Gaston,
Acting Administrator, Animal and Plant Health Inspection Service.

[FR Doc. E7-3012 Filed 2-21-07; 8:45 am]

BILLING CODE 3410-34-P